FEDERAL COMMUNICATIONS COMMISSION

Notice of Public Information Collection(s) Being Submitted for Review to the Office of Management and Budget

Correction

In notice document 07-309 beginning on page 3136 in the issue of Wednesday, January 24, 2007, make the following correction:

On page 3136, in the second column, under the DATES heading, in the third line “on or before.” should read “on or before February 23, 2007.”.

[FR Doc. C7-309 Filed 1-30-07; 8:45 am]

BILLING CODE 1505-01-D